EXPORT-IMPORT BANK OF THE U.S.

[Public Notice 141]

Agency Information Collection Activities: Comment Request

AGENCY: Export-Import Bank of the U.S.

ACTION: Submission for OMB Review and Comments Request, OMB 3048-0020.

Form Title

Notification by Insured of Amounts Payable Under Multi-Buyer Export Credit Insurance Policy (Standard Assignment) EIB 92-31.

Notification by Insured of Amounts Payable Under Single Buyer Export Credit Insurance Policy (Standard Assignment) EIB 92-32.

Small Business Multi-Buyer Export Credit Insurance Policy Enhanced Assignment of Policy Proceeds EIB 92-53.

Small Business Single Buyer Export Credit Insurance Policy Enhanced Assignment of Policy Proceeds EIB 99-17.

SUMMARY: The Export-Import Bank of the United States (Ex-Im Bank), as a part of its continuing effort to reduce paperwork and respondent burden, invites the general public and other Federal Agencies to comment on the proposed information collection, as required by the Paperwork Reduction Act of 1995. By neutralizing the effect of export credit insurance and guarantees offered by foreign government and by absorbing credit risks that the provide section will not accept, Export Import Bank enables U.S. exporters to compete fairly in foreign markets. These collections of information are used by exporters to convey legal rights to their financial institution lenders to share insurance policy proceeds from Export Import Bank approved insurance claims.

Changes to Form: Notification by Insured of Amounts Payable under Multi-Buyer Export Credit Insurance Policy (Standard Assignment) EIB 92-31.

Section B 5(b)

Change:

in the event Ex-Im Bank approves the Insured's claim for payment, a check will be issued payable to the order of the Insured, unless the Insured provides the name of an assignee on the “Notice of Claim and Proof of Loss” in which case a check will be forwarded to the assignee, made payable jointly to the order of the Insured and the assignee named on the Notice of Claim and Proof of Loss.

To:

in the event Ex-Im Bank approves the Insured's claim for payment, a wire transfer will be made to an assignee designated by the Insured on the “Notice of Claim and Proof of Loss.”

Section C 2(b)

Change:

to make all claim payments relating to this assignment by check forwarded to the Assignee, made payable jointly to the order of the Insured and the Assignee.

To:

to make all claim payments relating to this assignment by wire transfer to the Assignee, payable to the Assignee.

Changes to form: Notification by Insured of Amounts Payable under Single Buyer Export Credit Insurance Policy (Standard Assignment) EIB 92-32.

Section B 3(b)

Change:

in the event Ex-Im Bank approves the Insured's claim for payment, a check will be issued payable to the order of the Insured, unless the Insured provides the name of an assignee on the “Notice of Claim and Proof of Loss”. In which case a check will be forwarded to the assignee, made payable jointly to the order of the Insured and the assigned named on the Notice of Claim and Proof of Loss.

To:

in the event Ex-Im Bank approves the Insured's claim for payment, a wire transfer will be made to an assignee designated by the Insured on the “Notice of Claim and Proof of Loss.”

Section C 2(b)

Change:

to make all claim payments relating to this assignment by check forwarded to the Assignee, made payable jointly to the order of the Insured and the Assignee.

To:

to make all claim payments relating to this assignment by wire transfer to the Assignee, payable to the Assignee.

Changes to Form: Small Business Multi-Buyer Export Credit Insurance Policy Enhanced Assignment of Policy Proceeds EIB 92-53.

Section C.2. (c)

Change:

A bill of lading identifying the Insured and the Buyer and evidencing the export of the products shipped; and

To:

A bill of lading (or other shipping documents) identifying the Insured and the Buyer and evidencing the export of the products shipped; and

Section D 2

Change:

If in Ex-Im Bank's sole discretion, it determines that the Insured has complied with the terms of the Policy and the Agreements of the Insured contained herein, amounts payable under the Policy will be made jointly to the Assignee and the Insured; otherwise payable under the Policy and this Agreement will be made solely to the Assignee.

To:

If in Ex-Im Bank's sole discretion, it determines that the Insured has complied with the terms of the Policy and the Agreements of the Insured contained herein, amounts payable under the Policy will be made solely to the Assignee by wire transfer.

Changes to Form: Small Business Single Buyer Export Credit Insurance Policy Enhanced Assignment of Policy Proceeds EIB 99-17.

Section C.2. (c)

Change:

A bill of lading identifying the Insured and the Buyer and evidencing the export of the products shipped; and

To:

A bill of lading (or other shipping documents) identifying the Insured and the Buyer and evidencing the export of the products shipped: and

Section D 2

Change:

If in Ex-Im Bank's sole discretion, it determines that the Insured has complied with the terms of the Policy and the Agreements of the Insured contained herein, amounts payable under the Policy will be made jointly to the Assignee and the Insured; otherwise payable under the Policy and this Agreement will be made solely to the Assignee.

To:

If in Ex-Im Bank's sole discretion, it determines that the Insured has complied with the terms of the Policy and the Agreements of the Insured contained herein, amounts payable under the Policy will be made solely to the Assignee by wire transfer

Section F

Add a new sub-section 4 as follows:

4. that represents exclusively invoices for services, unless prior approval is obtained from Ex-Im Bank.

Sections G.3, G.4, G.5, G.6 and G.8

Change:

The numbering sequence of these sections

To:

Sections G.4, G.5, G.6, G.7, G8

And insert as a new Section G.3.

To:

G.3. Ex-Im Bank has the right to amend or cancel this Agreement upon written notice to both the Assignee and the Insured. Such notice shall be effective seven (7) business days after the date of the notice and apply to shipments after the effective date of the notice. Neither the Assignee nor the Insured may amend or cancel this Agreement without the written consent of all parties to this Agreement, including Ex-Im Bank.

DATES: Comments should be received on or before (30 days after publication) to be assured of consideration.

ADDRESSES: Comments maybe submitted through http://www.regulations.gov or mailed to: Office of Management and Budget, Office of Information and Regulatory Affairs, 725 17th Street, NW., Washington, DC 20038.

SUPPLEMENTARY INFORMATION:

Titles and Form Numbers

Notification by Insured of Amounts Payable Under Multi-Buyer Export Credit Insurance Policy (Standard Assignment) EIB 92-31.

Notification by Insured of Amounts Payable Under Single Buyer Export Credit Insurance Policy (Standard Assignment) EIB 92-32.

Small Business Multi-Buyer Export Credit Insurance Policy Enhanced Assignment of Policy Proceeds EIB 92-53.

Small Business Single Buyer Export Credit Insurance Policy Enhanced Assignment of Policy Proceeds EIB 99-17.

OMB Number: 3048-0020.

Type of Review: Regular.

Need and Use: The information collected will be used to make a determination of eligibility under the Ex-Im Bank's short-term insurance program.

Affected Public: This form affects entities involved in the export of U.S. goods and services.

Annual Number of Respondents: 400.

Estimated Time per Respondent: 1 hour.

Government Annual Burden Hours: 400.

Frequency of Reporting or Use: Annual for an enhanced assignment. Once for the life of a policy for the standard Assignment.

Sharon A. Whitt,
Agency Clearance Officer.

[FR Doc. 2010-360 Filed 1-11-10; 8:45 am]

BILLING CODE 6690-01-P